DEPARTMENT OF ENERGY

Federal Energy Regulatory Commission

[Docket No. EC05-90-000]

American Electric Power Service Corporation; Notice of Application To Authorize Disposition of Jurisdictional Facilities

June 3, 2005.

Take notice that on May 31, 2005, American Electric Power Service Corporation (AEPSC), acting on behalf of its electric utility affiliate, AEP Texas Central Company, formerly known as Central Power and Light Company, submitted an application for approval of the sale and transfer of certain electric substation facilities to Flint Hills Resources, LP, pursuant to section 203 of the Federal Power Act, 16 U.S.C. 824b (2004), and part 33 of the Regulations of the Federal Energy Regulatory Commission as revised pursuant to Order No. 642, FERC Stats. & Regs. ¶ 31,111 (2000).

AEPSC states that a copy of the filing has been served on the Public Utility Commission of Texas and on each wholesale customer served by TCC.

Any person desiring to intervene or to protest in the above proceeding must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filing in the above proceeding is accessible in the Commission's eLibrary system. It is also available for review in the Commission's Public Reference Room in Washington, DC. There is an eSubscription link on the Web site that enables subscribers to receive e-mail notification when a document is added to a subscribed dockets(s). For assistance with any FERC Online service, please e-mail FERCOnlinSupport@ferc.gov. or call (866) 208-3676 (toll free). For TTY, call (202) 502-8659.

Comment Date: 5 p.m. eastern time on June 21, 2005.

Linda Mitry,
Deputy Secretary.

[FR Doc. E5-2962 Filed 6-8-05; 8:45 am]

BILLING CODE 6717-01-P